DEPARTMENT OF THE INTERIOR

Geological Survey

[GX21DK20H2S0000; OMB Control Number 1028-0114]

Agency Information Collection Activities; National Ground-Water Monitoring Network Cooperative Funding Application

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before June 21, 2021.

ADDRESSES: Send your comments on this information collection request (ICR) by mail to U.S. Geological Survey, Information Collections Officer, 12201 Sunrise Valley Drive, MS 159, Reston, VA 20192; or by email to gs-info_collections@usgs.gov. Please reference OMB Control Number 1028-0114 in the subject line of your comments.

FOR FURTHER INFORMATION CONTACT: To request additional information about this ICR, contact Daryll Pope by email at dpope@usgs.gov, or by telephone at (804) 261-2630.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The USGS administers the National Ground-Water Monitoring Network which was developed through work with the Federal Advisory Committee on Water Information (ACWI) and its Subcommittee on Ground Water (SOGW). This network is required as part of Public Law 111-11, Subtitle F—Secure Water: Section 9507, 42 U.S.C. 10367, “Water Data Enhancement by United States Geological Survey.” The NGWMN consists of an aggregation of wells and spring from existing Federal, State, Tribal, and local groundwater monitoring networks. To support data providers for the NGWMN, the USGS will be providing funding through cooperative agreements to water-resource agencies that collect groundwater data. The USGS will be soliciting applications for funding that will request information from the Agency collecting the data. Elements will include contact information (phone number and email address), and a proposal describing their proposed work in support of the NGWMN. The proposal will describe the groundwater networks to be included in the NGWMN, the purpose of the networks, and the Principal aquifers that are monitored. Proposals may include work to become a new data provider to the NGWMN, support for maintaining connections to agency databases, and work to enhance NGWMN sites (updating metadata, well maintenance, well drilling, and support for continuous water-level monitoring equipment). The proposal would require estimates of costs to complete the above tasks and a timeline for planned completion. The proposal will be reviewed by the USGS and the NGWMN Program Board who will make funding recommendations.

Title of Collection: National Ground-Water Monitoring Network Cooperative Funding Application.

OMB Control Number: 1028-0114.

Form Number: None.

Type of Review: Renewal of a currently approved collection.

Respondents/Affected Public: Multi-state, state or local water-resources agencies who operate groundwater monitoring networks.

Total Estimated Number of Annual Respondents: 30.

Total Estimated Number of Annual Responses: 30.

Estimated Completion Time per Response: 40 hours.

Total Estimated Number of Annual Burden Hours: 1,200 hours.

Respondent's Obligation: Mandatory to be considered for funding.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq).

Janice Fulford,
Director, WMA Observing Systems Division.

[FR Doc. 2021-08020 Filed 4-19-21; 8:45 am]

BILLING CODE 4338-11-P